Title 3—

The President

Proclamation 8475 of January 20, 2010

National Angel Island Day, 2010

By the President of the United States of America

A Proclamation

One hundred years ago, the Angel Island Immigration Station in San Francisco Bay opened for the first time, and an important chapter of the American narrative began. It would be written by those who walked through the station’s doors over the next three decades. From the cities, villages, and farms of their birth, they journeyed across the Pacific, seeking better lives for themselves and their children. Many arrived at Angel Island, weary but hopeful, only to be unjustly confined for months or, in some cases, years. As we remember their struggle, we honor all who have been drawn to America by dreams of limitless opportunity.

Unlike immigrants who marveled at the Statue of Liberty upon arrival at Ellis Island, those who came to Angel Island were greeted by an intake facility that was sometimes called the “Guardian of the Western Gate.” Racially prejudiced immigration laws of the time subjected many to rigorous exams and interrogations, as well as detention in crowded, unsanitary barracks. Some expressed themselves by carving poetry and inscriptions into the walls in their native language—from Chinese, Japanese, and Korean to Russian, German, and Urdu. These etchings remain on Angel Island today as poignant reminders of the immigrant experience and an unjust time in our history.

If there is any vindication for the Angel Island immigrants who endured so many hardships, it is the success achieved by those who were allowed entry, and the many who, at long last, gained citizenship. They have contributed immeasurably to our Nation as leaders in every sector of American life. The children of Angel Island have seized the opportunities their ancestors saw from across an ocean. By demonstrating that all things are possible in America, this vibrant community has created a beacon of hope for future generations of immigrants.

NOW, THEREFORE, I, BARACK OBAMA, President of the United States of America, by virtue of the authority vested in me by the Constitution and the laws of the United States, do hereby proclaim January 21, 2010, as National Angel Island Day. I call upon the people of the United States to learn more about the history of Angel Island and to observe this anniversary with appropriate ceremonies and activities.

IN WITNESS WHEREOF, I have hereunto set my hand this twentieth day of January, in the year of our Lord two thousand ten, and of the Independence of the United States of America the two hundred and thirty-fourth.

[FR Doc. 2010-1618

Filed 1-25-10; 8:45 am]

Billing code 3195-W0-P